DEPARTMENT OF DEFENSE

Department of the Army; Corps of Engineers

Intent To Hold An Environmental Scoping Meeting To Solicit Citizen Input Into a Study of an Environmental Dredging Project on the Mahoning River in Ohio

AGENCY: Department of the Army, U.S. Army Corps of Engineers, DoD.

ACTION: Notice of open meeting.

SUMMARY: The Pittsburgh District (District), U.S. Army Corps of Engineers will conduct a public environmental scoping meeting to solicit input for alternatives for a proposed environmental dredging project on the Mahoning River in Ohio currently under study. Representatives of the Pittsburgh District will provide an overview presentation on the proposed environmental dredging project and the National Environmental Policy Act (NEPA) process. The public is invited to provide comments or ask questions relevant to the project.

Date of Meeting: July 31, 2002 from 7 to 9 p.m.

Place: Holiday Inn, Youngstown Metroplex, 1620 Motor Inn Drive, Girard, OH 44420-2422.

ADDRESSES: Submit questions or comments regarding the environmental dredging project to Mr. Carmen Rozzi, Project Manager, U.S. Army Corps of Engineers, Mahoning Environmental Dredging Project, 1000 Liberty Ave., Pittsburgh, PA 15222-4186, telephone (412) 395-7227 or e-mail: Irp.mahdredge@usace.army.mil.

FOR FURTHER INFORMATION CONTACT: Questions or comments regarding this notice can be directed to Ms. Deborah Duda, U.S. Army Corps of Engineers, 1000 Liberty Avenue, Pittsburgh, PA, 15222-4186, Telephone (412) 395-7213, e-mail: Irp.mahdredge@usace,army.mil.

SUPPLEMENTARY INFORMATION: The District is evaluating alternative strategies for the environmental restoration of 31 miles of the Mahoning River through environmental dredging. The project is being undertaken pursuant to the authority of section 312 of the Water Resources Development Act of 1990 (Pub. L. 101-640), as amended by Section 205 of the Water Resources Development Act of 1996 (Pub. L. 104-303). Section 312 provides for the removal of contaminated sediments (dredging) within navigable waters for the purpose of ecosystem restoration and identifies the Mahoning River, Ohio and Pennsylvania, dure to the severity of contamination, as one of five rivers in the nation given top priority for removal and remediation of contaminated sediments. The District will receive input from local, State and Federal agencies during an agency scoping meeting scheduled for earlier the day of the public environmental scoping meeting, and will use that input to evaluate alternatives and select a recommended alternative for implementation. The District will assess the environmental impacts of the recommended alternative and prepare an Environmental Assessment (EA). If, in the course of preparing the EA, significant impacts to the environment are identified, the District will prepare an Environmental Impact Statement (EIS). If no significant impacts are identified, the EA will be finalized and a Finding of No Significant Impact (FONSI) will be prepared.

1. Proposed Action: The Mahoning Environmental Dredging Project is designed to restore the ecosystem of the Mahoning River by removing contaminated sediment throughout a 31-mile stretch of the river (form Warren, Ohio to the Ohio-Pennsylvania border). The scoping process will solicit alternative methods of removing and disposing of contaminated sediment from the riverbed and riverbank in the most effective method.

2. Reasonable Alternatives: The District will evaluate a Future Without Project (No Action) Alternative and Future With Project Alternatives. The exact nature and extent of the projects in the Future With Project Alternatives will be determined as part of scoping during the NEPA process. To facilitate scoping of the environmental effects of the project, the public may initially base comments upon a combination of possible actions that result in the removal of contaminated sediments from the riverbed and riverbank. As the NEPA process continues, the District will refine the analysis and evaluation of possible plans for implementation.

The primary issues to be analyzed in depth during the NEPA process will be the environmental impacts of proposed actions on the Mahoning River and cumulative impacts of these proposed Federal actions in conjunction with reasonably foreseeable future actions by others. The impacts analysis will include biological resources, cultural resources and socioeconomic effects, air quality, noise impacts, and recreation resources.

These agency and public meetings will serve as the initial scoping effort for this action. In addition to the public notice, a notice will be mailed to all addresses on the Mahoning Environmental Dredging mailing list. Coordination throughout the project will be maintained with the appropriate local, State, and Federal agencies. The need for additional public meetings will be determined as the study progresses. Interested parties are encouraged to provide oral comments relevant to issues to be addressed in the NEPA process at the public forums. Otherwise, the District requests written comments or requests for information be directed to the following study contact: Mr. Carmen Rozzi (see ADDRESSES above).

John N. Goga,
Chief, Planning Branch.

[FR Doc. 02-17470 Filed 7-10-02; 8:45 am]

BILLING CODE 3710-85-M